ENVIRONMENTAL PROTECTION AGENCY

40 CFR Parts 52 and 81

[EPA-R09-OAR-2005-AZ-0006; FRL-8029-3]

Approval and Promulgation of Implementation Plans; Designation of Areas for Air Quality Planning Purposes; State of Arizona; Finding of Attainment for Ajo Particulate Matter of 10 Microns or Less (PM10) Nonattainment Area; Determination Regarding Applicability of Certain Clean Air Act Requirements

AGENCY: Environmental Protection Agency (EPA).

ACTION: Proposed rule.

SUMMARY: EPA is proposing to determine that the Ajo moderate PM-10 nonattainment area in Arizona has attained the National Ambient Air Quality Standards (NAAQS) for particulate matter with an aerodynamic diameter less than or equal to a nominal 10 micrometers (PM10). This determination is based upon monitored air quality data for the PM10 NAAQS during the years 2002-2004. EPA also finds that the Ajo area has continued to attain the PM10 NAAQS since 2004. Based on this determination, EPA is also proposing to determine that certain Clean Air Act requirements are not applicable for so long as the Ajo area continues to attain the PM10 NAAQS.

DATES: Any comments on this proposal must arrive by March 10, 2006.

ADDRESSES: Submit your comments, identified by Docket ID No. EPA-R09-OAR-2005-AZ-0006 by one of the following methods:

• http://www.regulations.gov. Follow the on-line instructions for submitting comments.

• E-mail: tax.wienke@epa.gov.

• Fax: (415) 947-3579 (please alert the individual listed in the FOR FURTHER INFORMATION CONTACT if you are faxing comments).

• Mail: Wienke Tax, Office of Air Planning, Environmental Protection Agency (EPA), Region 9, Mailcode AIR-2, 75 Hawthorne Street, San Francisco, California 94105-3901.

• Hand Delivery: Wienke Tax, Office of Air Planning, Environmental Protection Agency (EPA), Region 9, Mailcode AIR-2, 75 Hawthorne Street, San Francisco, California 94105-3901. Such deliveries are only accepted Monday through Friday, 8 a.m. to 4:55 p.m., excluding Federal holidays. Special arrangements should be made for deliveries of boxed information.

Instructions: Direct your comments to Docket ID No. EPA-R09-OAR-2005-AZ-0006. EPA's policy is that all comments received will be included in the public docket without change and may be made available online at: http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to Section I. General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy form. Publicly available docket materials are available either electronically in http://www.regulations.gov or in hard copy at the Office of Air Planning, Environmental Protection Agency (EPA), Region 9, Mailcode AIR-2, 75 Hawthorne Street, San Francisco, California 94105-3901. EPA requests that if at all possible, you contact the individual listed in the FOR FURTHER INFORMATION CONTACT section to view the hard copy of the docket. You may view the hard copy of the docket Monday through Friday, 8 a.m. to 4 p.m., excluding Federal holidays.

FOR FURTHER INFORMATION CONTACT: Wienke Tax, Office of Air Planning, U.S. Environmental Protection Agency, Region 9, (520) 622-1622, e-mail: tax.wienke@epa.gov.

SUPPLEMENTARY INFORMATION: This proposal addresses the determination that the Ajo moderate PM10 nonattainment area in Arizona has attained the National Ambient Air Quality Standards (NAAQS) for particulate matter with an aerodynamic diameter less than or equal to a nominal 10 micrometers (PM10). This determination is based upon monitored air quality data for the PM10 NAAQS during the years 2002-2004. This proposal also addresses the determination that, because the Ajo area continues to attain the PM10 NAAQS, certain attainment demonstration requirements, along with other related requirements of the CAA, are not applicable to the Ajo area. In the Rules and Regulations section of this Federal Register, we are taking direct final action to make these determinations because we believe this action is not controversial. If we receive adverse comments, however, we will publish a timely withdrawal of the direct final rule and address the comments in subsequent action based on this proposed rule. We do not plan to open a second comment period, so anyone interested in commenting should do so at this time. If we do not receive comments, no further activity is planned.

For all the reasons explained in the parallel direct final notice, we propose to determine that the Ajo moderate PM10 nonattainment area in Arizona has attained the National Ambient Air Quality Standards (NAAQS) for particulate matter with an aerodynamic diameter less than or equal to a nominal 10 micrometers (PM10). A determination of attainment is not a redesignation to attainment under CAA section 107(d)(3) because we have not yet approved a maintenance plan as required under section 175(A) of the CAA or determined that the area has met the other CAA requirements for redesignation.¹

¹ On December 20, 2005, EPA proposed revisions to the NAAQS for particulate matter. See 71 FR 2620, January 17, 2006. The proposed revisions address two categories of particulate matter: Fine particles which are particles 2.5 micrometers in diameter and smaller; and “inhalable coarse” particles, which are particles between 2.5 and 10 micrometers (PM10-2.5). Upon finalization of a primary 24-hour standard for PM10-2.5, EPA proposes to revoke the current 24-hour PM10 standard in all areas of the country except in areas where there is at least one monitor located in an urbanized area (as defined by the U.S. Bureau of the Census) with a minimum population of 100,000 that violates the current 24-hour PM10 standard based on the most recent three years of data. In addition, EPA proposes to revoke the current annual PM10 standard upon finalization of a primary 24-hour standard for PM10-2.5.

We further propose to determine that, because the Ajo area has continued to attain the PM10 NAAQS, certain attainment demonstration requirements, along with other related requirements of the CAA, are not applicable to the Ajo area. For further information on this proposal and the rationale underlying our proposed action, please see the direct final action.

Dated: January 24, 2006.
Wayne Nastri,
Regional Administrator, Region 9.

[FR Doc. 06-1173 Filed 2-7-06; 8:45 am]

BILLING CODE 6560-50-P